DEPARTMENT OF TRANSPORTATION

Surface Transportation Board

[Docket No. FD 35982]

Jackson County, Mo.—Acquisition and Operation Exemption—Union Pacific Railroad Company

Jackson County, Mo. (Jackson County), a noncarrier, has filed a verified notice of exemption under 49 CFR 1150.31 to acquire from Union Pacific Railroad Company and to operate, approximately 17.7 miles of rail line between milepost 288.3 and milepost 270.6, in Jackson County, Mo.¹

¹ Jackson County, doing business as Rock Island Rail Corridor Authority, will be the operator on the line.

The transaction may not be consummated until January 22, 2016 (30 days after the notice of exemption was filed).

Jackson County certifies that its projected annual revenues as a result of this transaction will not result in its becoming a Class II or Class I rail carrier and will not exceed $5 million.

Jackson County states that the agreement between the parties does not contain any provision that prohibits it from interchanging traffic with a third party or limits its ability to interchange with a third party.

If the verified notice contains false or misleading information, the exemption is void ab initio. Petitions to revoke the exemption under 49 U.S.C. 10502(d) may be filed at any time. The filing of a petition to revoke will not automatically stay the effectiveness of the exemption. Petitions to stay must be filed no later than January 15, 2016 (at least seven days before the exemption becomes effective).

An original and 10 copies of all pleadings, referring to Docket No. FD 35982, must be filed with the Surface Transportation Board, 395 E Street SW., Washington, DC 20423-0001. In addition, a copy of each pleading must be served on Kevin M. Sheys, 1666 K St. NW., Suite 500, Washington, DC 20006.

According to Jackson County, this action is categorically excluded from environmental review under 49 CFR 1105.6(c).

Board decisions and notices are available on our Web site at WWW.STB.DOT.GOV.

Decided: December 30, 2015.
By the Board, Joseph H. Dettmar, Acting Director, Office of Proceedings.
Tia Delano,
Clearance Clerk.

[FR Doc. 2016-00139 Filed 1-7-16; 8:45 am]

BILLING CODE 4915-01-P